DEPARTMENT OF STATE

[Public Notice 3787]

Notice of Receipt of Cultural Property Request From the Government of the Republic of Honduras

AGENCY: Department of State.

ACTION: Notice.

The Government of the Republic of Honduras, concerned that its cultural heritage is in jeopardy from pillage, made a request to the Government of the United States under Article 9 of the 1970 UNESCO Convention. The request was received on August 22, 2001, by the United States Department of State. It seeks U.S. import restrictions on Pre-Columbian archaeological material that includes certain categories of ceramic, stone, metal, shell, and bone artifacts.

In accordance with provisions of the Convention on Cultural Property Implementation Act (19 U.S.C. 2601 et seq.), the request will be submitted for review by the Cultural Property Advisory Committee that will report on its findings and recommendations.

A Public Summary of the Honduras Request and information about the Act and U.S. implementation of the 1970 UNESCO Convention can be found at http://exchanges.state.gov/education/culprop.

Dated: September 17, 2001.
Helena Kane Finn,
Acting Assistant Secretary for Educational and Cultural Affairs, U.S. Department of State.

[FR Doc. 01-23667 Filed 9-20-01; 8:45 am]

BILLING CODE 4710-11-P